DEPARTMENT OF LABOR

Pension and Welfare Benefits Administration

Working Group on Phased Retirement Advisory Committee on Employee Welfare and Pension Benefits Plans; Notice of Meeting

Pursuant to the authority contained in Section 512 of the Employee Retirement Income Security Act of 1974 (ERISA), 29 U.S.C. 1142, a public meeting will be held on Monday, November 13, 2000, of the Working Group on Phased Retirement of the Advisory Committee on Employee Welfare and Pension Benefit Plans.

The purpose of the open meeting, which will run from 1 p.m. to approximately 3:30 p.m. in room N-5437 A-C, U.S. Department of Labor Building, Second and Constitution Avenue NW, Washington, DC 20210, is for working group members to finalize the recommendations they will include in their report to the Secretary of Labor.

Members of the public are encouraged to file a written statement pertaining to the topic by submitting 20 copies on or before November 6, 2000, to Sharon Morrissey, Executive Secretary, ERISA Advisory Council, U.S. Department of Labor, Room N-5677, 200 Constitution Avenue, NW, Washington, DC 20210. Individuals or representatives of organizations wishing to address the Working Group should forward their request to the Executive Secretary or telephone (202) 219-8753. Oral presentations will be limited to 10 minutes, but an extended statement may be submitted for the record. Individuals with disabilities, who need special accommodations, should contact Sharon Morrissey by November 6, at the address indicated in this notice.

Organizations or individuals also may submit statements for the record without testifying. Twenty (20) copies of such statements should be sent to the Executive Secretary of the Advisory Council at the above address. Papers will be accepted and included in the record of the meeting if received on or before November 6.

Signed at Washington, DC this 19th day of October 2000.
Leslie Kramerich,
Acting Assitant Secretary, Pension and Welfare Benefits Administration.

[FR Doc. 00-27261 Filed 10-23-00; 8:45 am]

BILLING CODE 4510-29-M